DEPARTMENT OF THE INTERIOR

National Park Service

[NPS-WASO-NAGPRA-12615; PPWOCRADN0-PCU00RP14.R50000]

Native American Graves Protection and Repatriation Review Committee: Meetings

AGENCY: National Park Service, Interior.

ACTION: Notice.

SUMMARY: Notice is hereby given in accordance with the Federal Advisory Committee Act, 5 U.S.C. Appendix (1988), of two meetings of the Native American Graves Protection and Repatriation Review Committee (Review Committee). The Review Committee will meet on November 6-7, 2013, in Mount Pleasant, MI, and on December 5, 2013, from 2 p.m. until approximately 4 p.m. EST via teleconference. Both meetings will be open to the public.

DATES: The Review Committee will meet on November 6-7, 2013, and December 5, 2013, if necessary. Public comment requests must be received by September 20, 2013. Requests for CUI disposition must be received by August 30, 2013. Requests for findings of fact must be received by August 16, 2013. Requests to convene parties and facilitate the resolution of a dispute must be received by July 12, 2013. All submission dates apply to the November meeting.

ADDRESSES: The Review Committee will meet in the Ziibiwing Center of Anishinabe Culture and Lifeways, 6650 East Broadway, Mount Pleasant, MI 48858, on November 6-7, 2013. Electronic submissions are to be sent to Sherry_Hutt@nps.gov. Mailed submissions are to be sent to Designated Federal Officer, NAGPRA Review Committee, National Park Service, National NAGPRA Program, 1201 Eye Street NW., 8th Floor (2253), Washington, DC 20005.

SUPPLEMENTARY INFORMATION: Notice is hereby given in accordance with the Federal Advisory Committee Act, 5 U.S.C. Appendix (1988), of two meetings of the Native American Graves Protection and Repatriation Review Committee (Review Committee). The Review Committee was established in Section 8 of the Native American Graves Protection and Repatriation Act of 1990 (NAGPRA), 25 U.S.C. 3006.

Meeting, November 6-7, 2013

The Review Committee will meet on November 6-7, 2013, in the Ziibiwing Center of Anishinabe Culture and Lifeways, 6650 East Broadway, Mount Pleasant, MI 48858. This meeting will be open to the public. The agenda for this meeting will include the finalization of the Review Committee Report to Congress for 2013; the appointment of the subcommittee to draft the Review Committee Report to Congress for 2014 and discussion of the scope of the Report; and National NAGPRA Program reports. In addition, the agenda may include requests to the Review Committee for a recommendation to the Secretary of the Interior, as required by law, in order to effect the agreed-upon disposition of Native American human remains determined to be culturally unidentifiable; public comment by Indian tribes, Native Hawaiian organizations, museums, Federal agencies, and the public; requests to the Review Committee, pursuant to 25 U.S.C. 3006 (c)(3), for review and findings of fact related to the identity or cultural affiliation of human remains or other cultural items, or the return of such items; and facilitation of the resolution of disputes among parties convened by the Review Committee pursuant to 25 U.S.C. 3006 (c)(4). The agenda and materials for this meeting will be posted on or before October 7, 2013, at http://www.nps.gov/nagpra.

The Review Committee is soliciting public comment by Indian tribes, Native Hawaiian organizations, museums, and Federal agencies on the following two topics: (1) The progress made, and any barriers encountered, in implementing NAGPRA and (2) the outcomes of disputes reviewed by the Review Committee pursuant to 25 U.S.C. 3006 (c)(4). The Review Committee also will consider other public comment by Indian tribes, Native Hawaiian organizations, museums, Federal agencies, and the public. A public comment request must, at minimum, include an abstract of the presentation and contact information for the presenter(s). Public comment requests must be received by September 20, 2013.

The Review Committee will consider requests for a recommendation to the Secretary of the Interior, as required by law, in order to effect the agreed-upon disposition of Native American human remains determined to be culturally unidentifiable (CUI). A CUI disposition request must include the appropriate, completed form posted on the National NAGPRA Program Web site and, as applicable, the ancillary materials noted on the form. To access and download the appropriate form—either the form for CUI with a “tribal land” or “aboriginal land” provenience or the form for CUI without a “tribal land” or “aboriginal land” provenience—go to http://www.nps.gov/nagpra, and then click on “Request for CUI Disposition Form.” CUI disposition requests must be received by August 30, 2013.

The Review Committee will consider requests, pursuant to 25 U.S.C. 3006 (c)(3), for review and findings of fact related to the identity or cultural affiliation of human remains or other cultural items, or the return of such items, where consensus among affected parties is unclear or uncertain. A request for findings of fact must be accompanied by a statement of the fact(s) at issue and supporting materials, including those exchanged by the parties to consultation concerning the Native American human remains and/or other cultural items. Requests for findings of fact must be received by August 16, 2013.

The Review Committee will consider requests, pursuant to 25 U.S.C. 3006 (c)(4), to convene parties and facilitate the resolution of a dispute, where consensus clearly has not been reached among affected parties regarding the identity or cultural affiliation of human remains or other cultural items, or the return of such items. A request to convene parties and facilitate the resolution of a dispute must be accompanied by a statement of the decision of the museum or Federal agency subject to the dispute resolution request, a statement of the issue and supporting materials, including those exchanged by the parties to consultation concerning the Native American human remains and/or other cultural items. Requests to convene parties and facilitate resolution of a dispute must be received by July 12, 2013.

Submissions may be made in one of three ways:

1. Electronically, as an attachment to a message (preferred for submissions of 10 pages or less). Electronic submissions are to be sent to Sherry_Hutt@nps.gov.

2. By mail, on a single compact disc (preferred for submissions of more than 10 pages). Mailed submissions are to be sent to: Designated Federal Officer, NAGPRA Review Committee, National Park Service, National NAGPRA Program, 1201 Eye Street NW., 8th Floor (2253), Washington, DC 20005.

3. By mail, in hard copy.

Such items are subject to posting on the National NAGPRA Program Web site prior to the meeting.

Teleconference, December 5, 2013

The Review Committee will also meet via teleconference on December 5, 2013, from 2 p.m. until approximately 4 p.m. EST, for the sole purpose of finalizing the Review Committee Report to Congress, should the item not be resolved by November 7. This meeting will be open to the public. Those who desire to attend the meeting should contact NAGPRA@rap.midco.net, between November 25 and December 3, 2013, to be provided the telephone access number for the meeting. An agenda for the meeting will be posted to the National NAGPRA Program Web site at http://www.nps.gov/nagpra on November 20, 2013. A transcript and minutes of the meeting will also appear on the Web site.

General Information

Information about NAGPRA, the Review Committee, and Review Committee meetings is available on the National NAGPRA Program Web site at http://www.nps.gov/nagpra. For the Review Committee's meeting procedures, click on “Review Committee,” then click on “Procedures.” Meeting minutes may be accessed by going to the Web site, then clicking on “Review Committee,” and then clicking on “Meeting Minutes.” Approximately fourteen weeks after each Review Committee meeting, the meeting transcript is posted for a limited time on the National NAGPRA Program Web site.

Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Committee; consulting with the Secretary of the Interior on the development of regulations to carry out NAGPRA; and making recommendations regarding future care of repatriated cultural items. The Review Committee's work is carried out during the course of meetings that are open to the public.

Before including your address, phone number, email address, or other personal identifying information in your comment, you should be aware that your entire comment—including your personal identifying information—may be made publicly available at any time. While you can ask us in your comment to withhold your personal identifying information from public review, we cannot guarantee that we will be able to do so.

Dated: April 4, 2013.
Sherry Hutt,
Designated Federal Officer, Native American Graves Protection and Repatriation Review Committee.

[FR Doc. 2013-08369 Filed 4-9-13; 8:45 am]

BILLING CODE 4312-50-P